DEPARTMENT OF AGRICULTURE

Natural Resources Conservation Service

West Fork Kickapoo Watershed; Programmatic Environmental Impact Statement

AGENCY: Natural Resources Conservation Service, U.S. Department of Agriculture (USDA).

ACTION: Notice of availability; record of decision.

SUMMARY: This notice of availability presents the Record of Decision (ROD) on a Watershed Project Plan—Programmatic Environmental Impact Statement (Plan-PEIS) for the West Fork Kickapoo (WFK) Watershed prepared in partnership with Monroe and Vernon Counties, Wisconsin (Sponsors). This notice announces the plan to proceed with the implementation of Alternative 7—Proposed Action—Decommission All Dams and Replace Jersey Valley County Park Dam (WFK-1) with a high hazard, multi-purpose dam, identified in the Plan-PEIS. Alternative 7 proposes to decommission dams by excavating a notch to pass the 100-year flood without impounding water. It also proposes to replace WFK-1 with a high hazard, multi-purpose dam approximately 1,000 feet downstream of the existing dam. This action will avoid environmental impacts to the extent possible and mitigate impacts that are unavoidable.

ADDRESSES: You may request a copy of the ROD from: Steve Becker, NRCS State Conservation Engineer, 8030 Excelsior Drive, Suite 200, Madison, WI 53717.

FOR FURTHER INFORMATION CONTACT: Steve Becker; telephone: (608) 400-6176; or email: steve.becker@usda.gov. Individuals who require alternative means for communication should contact the USDA Target Center at (202) 720-2600 (voice and text telephone (TTY)) or dial 711 for Telecommunications Relay service (both voice and text telephone users can initiate this call from any telephone).

SUPPLEMENTARY INFORMATION:

Decision

Natural Resources Conservation Service (NRCS) has prepared a ROD following completion of the Plan-PEIS. The Plan-PEIS provides a retrospective analysis of the existing flood control project and then evaluates alternatives for the final disposition of 9 flood control dams constructed between 1956 and 1971. The purpose of the Plan-PEIS is to ensure agencies consider the environmental impacts of their action in decision making. NRCS involvement is through Public Law 83-566, Watershed Protection and Flood Prevention Act, as amended. The ROD is available for viewing at the following link: https://www.wfkandccwatersheds.com/2023. NRCS has decided to assist the Sponsors with implementing Alternative 7 which proposes to decommission all 9 dams in the watershed and replace WFK-1 about 1,000 feet downstream of the existing dam.

Background

The WFK Watershed has an area of 75,387 acres (117.8 square miles) to the confluence with the Kickapoo River. The focused planning area for the Plan-PEIS is 63,761 acres (99.6 square miles). The Plan-PEIS follows an original Watershed Work Plan developed in 1961 to reduce flood damages in the WFK valley under the Watershed Protection and Flood Prevention Act of 1954.

The major problems in the watershed between 1956 and 1961 were floodwater damages to: crops and pasture, fences, farmsteads, machinery, buildings, livestock, county, township roads and bridges, and the village of Liberty. Project measures implemented under the 1961 Watershed Work Plan include a multitude of land treatment practices to reduce erosion and sedimentation behind the dams and 7 flood control dams with a total capacity of 3,652 acre-feet to regulate flood flows from 30.73 square miles, or 31 percent of the watershed above the village of Liberty. With the addition of two dams built under the Pilot Watershed Program in 1956, the runoff from 34.6 square miles or 35 percent of the watershed above the village of Liberty is controlled. The dams have now completed their Federal interest or original economic evaluation period of 50 years.

On the night of August 27, 2018, two watershed dams over-topped and two dams failed, including the WFK-1 and Mlsna Dams. Rainfall amounts up to 11 inches were reported on the night of August 27 and early morning of August 28. Additional rainfall amounts up to 7 inches were reported in the afternoon of August 28 after the dam failures.

The dams failed (breached) along the interface between the earthfill and highly jointed sandstone abutments. Each breach extended full depth to the valley floor. No one was injured or killed. Large debris fields were observed downstream of the dams for about 1/4 mile. Agricultural lands and road crossings were damaged. Engineering investigations concluded that flow through the fractured sandstone during high pool stage caused internal erosion and piping of the earthfill dam and contributed to the failures. The Sponsors and NRCS are concerned that a similar vulnerability exists in the remaining 7 dams.

Environmental Review

The ROD summarizes the findings of the Plan-PEIS and provides the basis for a decision to decommission 9 flood control dams in the WFK watershed and replace WFK-1 with a high hazard, multi-purpose dam. The watershed project plan and the environmental document were combined in the single Plan-PEIS document. NRCS is the lead Federal agency responsible for the content and quality of the Plan-EIS for the purposes of National Environmental Policy Act (NEPA), Principles, Requirements, and Guidelines (PR&G) for Federal Investments in Water Resources and National Historic Preservation Act (NHPA) compliance.

The ROD is issued as specified by the NEPA process (42 U.S.C. 4321-4347) which follows the NRCS NEPA regulations in 7 CFR part 650, subpart A, and 7 CFR part 622. The NRCS NEPA regulations adopt the Council of Environmental Quality (CEQ) NEPA regulations (40 CFR parts 1500-1508) in total.

Alternatives

Considered alternatives included: no action, repair, rehabilitation, relocation, replacement, removal, and construction of additional dams. Considered alternatives also include the substitution of large watershed dams with a multitude of smaller farm ponds. Further effort was made to evaluate the effects of various land management strategies to reduce watershed runoff and flood damages were compared for present land use against a full watershed conversion from cropland to grassland.

Three of 12 alternatives were provided for detailed study and for comparative analysis: No Action, Decommission Dams, Decommission Dams and Replace WFK-1. The No Action alternative does not address dam safety. Two failed dams, plus three failures in the adjacent Coon Creek Watershed, present a high probability for future failures. The State Dam Safety Program has issued an administrative order to Vernon County, as the owner, to repair or remove the two failed dams; similarly, the State Dam Safety Program would likely order the repair or removal of the 7 remaining dams if the dams fail in the future. The Decommission Dams alternative proposes to decommission all 9 dams to prevent future dam failures and potential loss of life and property damage. The Decommission Dams and Replace WFK-1 dam alternative prevents future dam failures and restores the flood control and recreational benefits that are a keystone of Jersey Valley County Park.

Factors Considered in Making the Decision

Geologic and geotechnical engineering investigations were conducted following the failures of the Mlsna and WFK-1 Dams. The investigation report concluded that flow through the fractured sandstone abutments during high pool stages contributed to the failures. A similar vulnerability is believed to exist in the remaining structures.

Failure of the remaining dams could result in loss of life and would likely cause downstream flood, erosion, sedimentation damages to cropland, farm structures, road crossings, and utilities. Dam failures would also result in erosion and sedimentation of streams resulting in adverse impacts to fish and wildlife habitat.

All programmatic alternatives have submarginal economic performance except for the WFK-1 dam replacement. They have negative discounted net economic efficiency and low benefit to cost ratios. However, the preferred alternative of dam decommissioning decreases People at Risk (PAR) from a dam failure and increases length of natural stream connectivity for habitat and recreation. The Decommission Dams alternative is justified by the social (PAR and recreation) and environmental (stream restoration) accounting of the PR&G for Federal Investments in Water Resources. The replacement of the WFK-1 dam would restore a unique recreational opportunity in the Driftless Area of Southwest Wisconsin and re-establish the cornerstone of Jersey Valley County Park with 370-acres that generate 11 types of recreation. It will also provide flood protection benefits for about 49 homes.

Public Notice

As specified in 7 CFR 650.12(c) and 40 CFR 1505.2, the Draft PEIS public notice was initiated by publication of the Draft EIS on December 22, 2023, and published in the Federal Register (88 FR 88610), as identified by EIS number 20230181 in the Environmental Protection Agency's (EPA) Central Dat Exchange (CDX) system. Concluding the initial public notice, essential comments were addressed and incorporated in the Final PEIS. The Final PEIS was made available for review through EPA's CDX system on May 17, 2024, and published in the Federal Register (89 FR 43401).

Conclusion

The Plan-PEIS for the West Fork Kickapoo Watershed uses all practical means, consistent with considerations of national policy, to meet the goals established in NEPA. The Plan-PEIS will serve the overall public interest and meet the needs of the project sponsors. The Plan-PEIS has been prepared, reviewed, and accepted in accordance with the provisions of NEPA as implemented by Departmental regulations for the preparation of a Plan-PEIS. After considering a broad range of alternatives, the Plan-PEIS has found Alternative 7—Proposed Action—Decommission Dams and Replace WFK-1, to be the environmentally preferable alternative to serve the Sponsor's purpose and need.

NRCS has decided to assist Sponsors with the implementation of Alternative 7 to decommission all 9 dams by excavating a notch to pass the 100-year flood without impounding water while avoiding environmental impacts to the extent possible and mitigating for impacts that are unavoidable. NRCS also has decided to assist Sponsors with the replacement of the WFK-1 dam to restore a unique recreational opportunity in the Driftless Area and re-establish the cornerstone of Jersey Valley County Park with 370-acres that generate 11 types of recreation. It will also provide flood protection benefits for about 49 homes.

NRCS has prepared a concise ROD for this action. The ROD was prepared and will be signed by the State Conservationist (STC) following the 30-day administrative action period initiated by the EPA's publication of the notice of availability of the Final PEIS in the Federal Register. The ROD will be distributed to all who provided essential comments on the Draft PEIS and will be available for review upon request.

Federal Assistance Programs

The title and number of the Federal Assistance Program as found in the Assistance Listing ¹ to which this document applies is 10.904, Watershed Protection and Flood Prevention.

¹ See https://sam.gov/content/assistance-listings.

Executive Order 12372

Executive Order 12372, “Intergovernmental Review of Federal Programs,” requires consultation with State and local officials that would be directly affected by proposed Federal financial assistance. The objectives of the Executive order are to foster an intergovernmental partnership and a strengthened federalism, by relying on State and local processes for State and local government coordination and review of proposed Federal financial assistance and direct Federal development. This project is subject to the provisions of Executive Order 12372, which requires intergovernmental consultation with State and local officials.

USDA Non-Discrimination Policy

In accordance with Federal civil rights law and USDA civil rights regulations and policies, USDA, its agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Individuals who require alternative means of communication for program information (for example, braille, large print, audiotape, American Sign Language, etc.) should contact the responsible Agency or USDA TARGET Center at (202) 720-2600 (voice and telephone) or dial 711 for Telecommunications Relay Service (both voice and text telephone users can initiate this call from any phone). Additionally, program information may be made available in languages other than English.

To file a program discrimination complaint, complete the USDA Program Discrimination Complaint Form, AD-3027, found online at: https://www.usda.gov/oascr/how-to-file-a-program-discrimination-complaint and at any USDA office or write a letter addressed to USDA and provide in the letter all the information requested in the form. To request a copy of the complaint form, call (866) 632-9992. Submit your completed form or letter to USDA by: (1) mail to: U.S. Department of Agriculture, Office of the Assistant Secretary for Civil Rights, 1400 Independence Avenue SW, Washington, DC 20250-9410; (2) Fax: (202 690-7442; or (3) email: program.intake@usda.gov.

USDA is an equal opportunity provider, employer, and lender.

Joseph Schmelz,
Acting Wisconsin State Conservationist, Natural Resources Conservation Service.

[FR Doc. 2024-26636 Filed 11-14-24; 8:45 am]

BILLING CODE 3410-16-P